DEPARTMENT OF THE INTERIOR

Bureau of Land Management

[LLNMA02000.L51010000.ER0000.17X LVRWG17G1360; NMNM 136976]

Notice of Intent To Prepare a Resource Management Plan Amendment and Environmental Impact Statement for the Borderlands Wind Project in Catron County, New Mexico; and Notice of Public Lands Segregation

AGENCY: Bureau of Land Management, Interior.

ACTION: Notice of intent.

SUMMARY: In compliance with the National Environmental Policy Act of 1969, as amended (NEPA), and the Federal Land Policy and Management Act of 1976, as amended, the Bureau of Land Management (BLM) Socorro Field Office will prepare an Environmental Impact Statement (EIS), which includes a potential Plan Amendment to the 2010 Socorro Field Office Resource Management Plan (RMP) for a proposed commercial wind energy project located on public lands in Catron County, New Mexico. Publication of this Notice initiates the scoping process and opens a 30-day public comment period to solicit public comments and identify issues. Publication of this Notice also serves to segregate the public lands from appropriation under the public land laws, including location under the Mining Law, but not the Mineral Leasing Act or the Materials Act, subject to valid existing rights. This Notice initiates the public scoping process and the public lands segregation.

DATES: This notice initiates a 30-day public scoping period that will assist in preparation of the Draft EIS. Comments on issues may be submitted in writing until December 10, 2018.

The BLM expects to hold at least one public meeting in New Mexico during the scoping period, to provide an opportunity to review the proposal and project information. Announcements will be made by news release to the media and posted on the BLM's website listed below.

Comments must be received prior to the close of the scoping period in order to be included in the Draft EIS/Resource Management Plan Amendment (RMPA). The BLM will provide additional opportunities for public participation upon publication of the Draft EIS/RMPA.

ADDRESSES: You may submit comments or resource information related to the project by any of the following methods:

• Website: https://www.blm.gov/site-page/programs-planning-and-nepa-plans-development-new-mexico-proposed-borderlands-wind-project.

• Mail: Jim Stobaugh, National Project Manager, Bureau of Land Management Nevada State Office, Borderlands Wind Project, 1340 Financial Blvd., Reno, NV 89520.

FOR FURTHER INFORMATION CONTACT: For further information and/or to have your name added to our mailing list, please contact Virginia Alguire, BLM Socorro Field Office, 901 South Hwy 85, Socorro, New Mexico 87801; phone (575) 838-1290, or email to valguire@blm.gov. Persons who use a telecommunications device for the deaf (TDD) may call the Federal Relay Service (FRS) at 1-800-877-8339 to contact Ms. Alguire during normal business hours. The FRS is available 24 hours a day, 7 days a week, to leave a message or question with the above individual. You will receive a reply during normal business hours.

SUPPLEMENTARY INFORMATION: On May 18, 2017, Borderlands Wind, LLC, submitted an application to the BLM requesting authorization to construct, operate, maintain, and terminate an up-to-100 megawatt commercial wind energy generation facility—Borderlands Wind Project (NMNM136976), in Catron County, New Mexico, within a boundary that encompasses approximately 40,348 acres of land managed by the BLM, the New Mexico State Land Office (SLO), and private landowners. The project would be located south of U.S. Route 60 in Catron County near Quemado, New Mexico, and the Arizona-New Mexico border. Approximately 28,989.38 of the 40,348 acres are located on lands managed by the BLM Socorro Field Office. The project would generally consist of approximately thirty-six 2.5-megawatt (MW) and four 2.3-MW General Electric (GE) wind turbine generators (WTG). Ancillary facilities such as access roads, underground collections, substation/switchyard, etc., would be located on lands administered by the BLM, SLO, or privately owned lands as needed.

Due to the potential impacts of the proposed Borderlands Wind Project, the BLM is preparing an EIS, and would be the lead agency. The purpose of the public scoping process is to determine relevant issues that will influence the scope of the environmental analysis, including alternatives, and guide the process for developing the EIS and potential Plan Amendments. At present, the BLM has identified the following preliminary issues: Cultural resources; threatened, endangered, and sensitive species; visual resources; tribal interests; military training flight paths; and future reclamation/mitigation from wind turbine construction and location. The BLM will identify, analyze, and require on-site mitigation, as appropriate, to address the reasonably foreseeable impacts to resources from the approval of this project. Mitigation may include avoidance, minimization, rectification, reduction or elimination over time, and may be considered on multiple scales to address the associated impact.

The BLM will use and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Native American Indian tribes on a government-to-government basis in accordance with Executive Order 13175 and other policies. Tribal concerns, including impacts on Indian trust assets and potential impacts to cultural resources, will be given due consideration. Federal, state, and local agencies, along with tribes and other stakeholders that may be interested in or affected by the proposed Borderlands Wind Project that the BLM is evaluating, are invited to participate in the scoping process and, if eligible, may request, or be requested by the BLM, to participate in the development of the environmental analysis as a cooperating agency.

Authorization of this proposal requires amendments to the 2010 Socorro Field Office RMP to modify the visual resource management class in the project area and to modify a right-of way (ROW) avoidance area. By this notice, the BLM is complying with requirements 43 CFR 1610.2(c) to notify the public of potential amendments to the 2010 Socorro Field Office RMP. The BLM will integrate the land use planning process with the NEPA analysis process for this project.

The BLM encourages comments concerning the proposed Borderlands Wind energy generation facility, feasible alternatives, possible measures to minimize and/or avoid adverse environmental impacts, and any other information relevant to the proposed action. You may submit comments in writing to the BLM at any public scoping meeting or at any time by using one of the methods listed in the ADDRESSES section of this notice. Public scoping meetings will be conducted in an open house format with BLM staff and representatives from Borderlands Wind, LLC available to explain project details and gather information from interested individuals or groups. You should submit comments by the close of the 30-day scoping period.

Before including your address, phone number, email address, or other personal identifying information in your comment, you should be aware that your entire comment—including your personal identifying information—may be made publicly available at any time. While you can ask us in your comment to withhold your personal identifying information from public review, we cannot guarantee that we will be able to do so.

Any persons wishing to be added to a mailing list of interested parties can call or write to the BLM, as described in this Notice. Additional information meetings may be conducted throughout the process to keep the public informed of the progress of the EIS.

Segregation of the Public Lands

In accordance with 43 CFR 2091.3-1(e) and 43 CFR 2804.25(f), the BLM is segregating the public lands within the proposed ROW area from appropriation under the public land laws, including the Mining Law, but not the Mineral Leasing or the Material Sales Acts, for a period of up to 2 years in order to promote the orderly administration of the public lands. This temporary segregation is subject to valid existing mining claims located before this segregation notice. Licenses, permits, cooperative agreements, or discretionary land use authorizations of a temporary nature which would not impact lands identified in this notice may be allowed with the approval of an authorized officer of the BLM during the segregation period. The lands segregated under this Notice are legally described as follows:

New Mexico Principal Meridian, New Mexico

T. 1 S, R. 19 W,

Sec. 10, All;

Sec. 15, lots 1 thru 4;

Sec. 17, SE¼NE¼, SW¼NE¼, SE¼, SW¼;

Sec. 20, All;

Sec. 21, SE¼;

Sec. 29, All;

Sec. 30, All;

Sec. 31, All;

Sec. 33, All;

Area described approximate 5051.28 acres.

New Mexico Principal Meridian, New Mexico

T. 2 S, R. 19 W,

Sec. 4, lots 2 and 3, SE¼NW¼, SW¼NW¼, SW¼;

Secs. 5 thru 8;

Sec. 9, N½;

Secs. 17 thru 19;

Sec. 20, lots 1 thru 5, S½SE¼, NE¼SE¼;

Sec. 30, lots 3 thru 14, W½SW¼, E½SW¼;

Area described approximate 6268.11 acres.

New Mexico Principal Meridian, New Mexico

T. 1 S, R. 20 W,

Sec. 25, All;

Sec. 26, All;

Sec. 29, All;

Sec. 30, All;

Sec. 31, NE¼, lots 13 and 14, N½SE¼;

Sec. 33, lots 1 thru 4, NE¼SW¼, NW¼SW¼, NE¼SE¼, NW¼SE¼;

Sec. 34, lots 1 thru 4, NE¼, NE¼SW¼, NW¼SW¼, NE¼SE¼, NW¼SE¼;

Sec. 35, All;

Area described approximate 3688.25 acres.

New Mexico Principal Meridian, New Mexico

T. 2 S, R. 20 W,

Sec. 1, All;

Secs. 3 thru 5;

Sec. 6, lots 1 and 2, SE¼NE¼,SW¼NE¼;

Sec. 9, W½;

Sec. 10, E½,SE¼SW¼;

Secs. 11 thru 15;

Secs. 21 thru 28;

Secs. 33 thru 35;

Area described approximate 13601.49 acres.

New Mexico Principal Meridian, New Mexico

T. 3 S, R. 20 W,

Sec. 3, lots 5 thru 12;

Sec. 4, lots 5 thru 8.

Area described approximate 380.25 acres.

The areas described contain approximately 28,989.38 acres, according to the official plats of the surveys and protraction diagrams of the lands on file with the BLM.

As provided in the 43 CFR 2804.25(f), the segregation of lands in this Notice will not exceed 2 years from the date of publication of this Notice, though it can be extended for up to 2 additional years through publication of a new notice in the Federal Register.

Termination of the segregation occurs on the earliest of the following dates: Upon issuance of a decision by the authorized officer granting, granting with modifications, or denying the application for a ROW; automatically at the end of the segregation; or upon publication of a Federal Register notice of termination of the segregation. Upon termination of segregation of these lands, all lands subject to this segregation will automatically reopen to appropriation under the public land laws.

Authority: 40 CFR 1501.7, 43 CFR 1610.2. 43 CFR 2091.3-1, and 43 CFR 2804.25(f).

Timothy R. Spisak,
Acting BLM New Mexico State Director.

[FR Doc. 2018-24401 Filed 11-8-18; 8:45 am]

BILLING CODE 4310-FB-P